DEPARTMENT OF TRANSPORTATION

Federal Aviation Administration

Antidrug and Alcohol Misuse Prevention Programs for Personnel Engaged in Specified Aviation Activities

AGENCY: Federal Aviation Administration (FAA), DOT.

ACTION: Notice.

SUMMARY: The FAA has determined that the minimum percentage rate for drug testing for the period January 1, 2001, through December 31, 2001, will remain at 25 percent of covered aviation employees for random drug testing and will remain at 10 percent of covered aviation employees for random alcohol testing.

FOR FURTHER INFORMATION CONTACT: Mr. Arnold N. Schwartz, Office of Aviation Medicine, Drug Abatement Division, Program Analysis Branch (AAM-810), Federal Aviation Administration, 800 Independence Avenue, SW., Washington, DC 20591; telephone (202) 267-5970.

SUPPLEMENTARY INFORMATION:

Administrator's Determination of 2001 Random Drug and Alcohol Testing Rates

In final rules published in the Federal Register on February 15, and December 2, 1994 (59 FR 7380 and 62218, respectively), the FAA announced that it will set future minimum annual percentage rates for random alcohol and drug testing for aviation industry employers according to the results which the employers experience conducting random alcohol and drug testing during each calendar year. The rules set forth the formula for calculating an annual aviation industry “violation rate” for random alcohol testing and an annual aviation industry “positive rate” for random drug testing. The “violation rate” for random alcohol tests means the number of covered employees found during random tests given under 14 CFR part 121, appendix J to have an alcohol concentration of 0.04 or greater plus the number of employees who refused a random alcohol test, divided by the total reported number of employees given random alcohol tests plus the total reported number of employees who refused a random test. The “positive rate” means the number of positive results for random drug tests conducted under 14 CFR part 121, appendix I plus the number of refusals to take random drug tests, divided by the total number of random drug tests plus the number of refusals to take random drug tests. The violation rate and the positive rate are calculated using information required to be submitted to the FAA by specified aviation industry employers as part of an FAA Management Information System (MIS) and form the basis for maintaining or adjusting the minimum annual percentage rates for random alcohol and drug testing as indicated in the following paragraphs.

When the annual percentage rate for random alcohol testing is 25 percent or more, the FAA Administrator may lower the rate to 10 percent if data received under the MIS reporting requirements for two consecutive calendar years indicate that the violation rate is less than 0.5 percent.

When the minimum annual percentage rate for random alcohol testing is 50 percent, the FAA Administrator may lower the rate to 25 percent if data received under the MIS reporting requirements for two consecutive calendar years indicate that the violation rate is less than 1.0 percent but equal to or greater than 0.5 percent.

When the minimum annual percentage rate for random alcohol testing is 10 percent, and the data received under the MIS reporting requirements for that calendar year indicate that the violation rate is equal to or greater than 0.5 percent but less than 1.0 percent, the FAA Administrator must increase the minimum annual percentage rate for random alcohol testing to 25 percent.

When the minimum annual percentage rate for random alcohol testing is 25 percent or less, and the data received under the MIS reporting requirements for that calendar year indicate that the violation rate is equal to or greater than 1.0 percent, the FAA Administrator must increase the minimum annual percentage rate for random alcohol testing to 50 percent.

When the minimum annual percentage rate for random drug testing is 50 percent, the FAA Administrator may lower the rate to 25 percent if data received under the MIS reporting requirements for two consecutive calendar years indicate that the positive rate is less than 1.0 percent.

When the minimum annual percentage rate for random drug testing is 25 percent, and the data received under the MIS reporting requirements for any calendar year indicate that the reported positive rate is equal to or greater than 1.0 percent, the Administrator will increase the minimum annual percentage rate for random drug testing to 50 percent.

There is a one year lag in the adjustment in the minimum annual percentage rates for random drug and alcohol testing because MIS data for a given calendar year is not reported to the FAA until the following calendar year. For example, MIS data for 1998 is not reported to the FAA until March 15, 1999, and any rate adjustments resulting from the 1998 data are not effective until January 1, 2000, following publication by the FAA of a notice in the Federal Register.

The minimum annual percentage rate for random alcohol testing was 10 percent for calendar year 2000. In this notice, the FAA announces that it has determined that the violation rate for calendar year 1999 is less than one percent positive, at approximately 0.42 percent. Since the data received for that calendar year do not indicate that the violation rate is equal to or greater than 0.5 percent but less than 1.0 percent, the minimum annual percentage rate for random alcohol testing for aviation industry employers for calendar year 2001 will remain at 10 percent.

The minimum annual percentage rate for random drug testing was 25 percent in calendar year 2000. Therefore, the FAA is also announcing that it has determined that the positive rate for calendar year 1999 is less than 1 percent, at approximately 0.65 percent, and that the minimum annual percentage rate for random drug testing for aviation industry employers for calendar year 2001 will remain at 25 percent.

Issued in Washington, DC on November 29, 2000.
Jon L. Jordan,
Federal Air Surgeon.

[FR Doc. 00-30922 Filed 11-30-00; 3:24 pm]

BILLING CODE 4910-13-M